DEPARTMENT OF HEALTH AND HUMAN SERVICES

Administration for Community Living

Agency Information Collection Activities: Submission for OMB Review; Comment Request; OAA Title III-E Evaluation

AGENCY: Administration for Community Living, HHS.

ACTION: Notice.

SUMMARY: The Administration for Community Living (formerly the Administration on Aging (AoA)) is announcing that the proposed collection of information listed below has been submitted to the Office of Management and Budget (OMB) for review and clearance under the Paperwork Reduction Act of 1995.

DATES: Submit written comments on the collection of information by July 21, 2014.

ADDRESSES: Submit written comments on the collection of information by fax 202.395.6974 to the OMB Desk Officer for ACL, Office of Information and Regulatory Affairs, OMB.

FOR FURTHER INFORMATION CONTACT: Alice-Lynn Ryssman, 202.357.3491.

SUPPLEMENTARY INFORMATION: In compliance with PRA (44 U.S.C. 3501-3520), the Administration for Community Living (ACL, formerly the Administration for Aging) has submitted the following proposed collection of information to the Office of Management and Budget (OMB) for review and clearance. The process evaluation data collection associated with the Title III-E National Family Caregiver Support Program (NFCSP) is necessary to meet three broad objectives of ACL: (1) To provide information to support program planning, including an analysis of program processes, (2) to develop information about program efficiency and costs, and (3) gauge program effectiveness in assessing community and client needs, targeting and prioritizing, and providing services to family caregivers. The process evaluation will examine the strategies, activities, and resources of the program at each level of the Aging Network—State Unit on Aging (SUA), Area Agency on Aging (AAA), and Local Service Provider (LSP)—to meet the needs of NFCSP clients/caregivers.

In response to the 60-day Federal Register Notice related to this proposed data collection and published on November 20, 2013, comments from six individuals and/or organizations were received. Many of the suggestions, such as to add “Dementia training” to the list of options under the types of training provided to state and local workers/volunteers, were implemented into the appropriate surveys. Suggested changes at odds with the program definitions or operations, such as the suggestion to replace the term “Dementia” with “Neurocognitive Disorder” were not adopted. In response to comments about the length of the surveys, a few additional questions were removed from the State Unit on Aging (SUA) and Area Unit on Aging (AAA) surveys. Comments concerning the caregiver surveys in the original 60-day notice will be covered in a later NFCSP outcome evaluation notice.

The process study will administer online surveys to all 56 SUAs, all of the 618 AAAs and a sample of 1,000 LSPs. ACL estimates the burden of this collection of information as follows 1,566 hours for local agencies (AAAs and LSPs) and 84 hours for the State Units on Aging (SUAs) for a Total Burden for Study of 1,650 hours.

The proposed data collection tools may be found on the ACL Web site at http://www.aoa.gov/AoARoot/Program_Results/Program_survey.aspx.

Dated: June 16, 2014.
Kathy Greenlee,
Administrator and Assistant Secretary for Aging.

[FR Doc. 2014-14353 Filed 6-18-14; 8:45 am]

BILLING CODE 4154-01-P